DEPARTMENT OF TRANSPORTATION

Federal Motor Carrier Safety Administration

49 CFR Part 395

[Docket No. FMCSA-2025-0114]

RIN 2126-AC88

Rescinding the Requirement for Electronic Logging Device Operator's Manual Located in Commercial Motor Vehicles

AGENCY: Federal Motor Carrier Safety Administration (FMCSA), Department of Transportation (DOT).

ACTION: Notice of proposed rulemaking (NPRM).

SUMMARY: FMCSA proposes to amend the Federal Motor Carrier Safety Regulations (FMCSRs) to rescind the in-vehicle electronic logging device (ELD) operator's manual requirement for commercial motor vehicles (CMVs). FMCSA currently maintains a list of the ELD vendors who have self-certified their products including submission of the operator's manual. Additionally, drivers are required to understand the operation of the ELD on the vehicle. There is no readily apparent benefit to continuing to require that the users' manual be in the CMV. This proposal would eliminate an unintended regulatory burden on motor carriers without compromising safety.

DATES: Comments must be received on or before July 29, 2025.

ADDRESSES: You may submit comments identified by Docket Number FMCSA-2025-0114 using any of the following methods:

• Federal eRulemaking Portal: Go to https://www.regulations.gov/docket/FMCSA-2025-0114/document. Follow the online instructions for submitting comments.

• Mail: Dockets Operations, U.S. Department of Transportation, 1200 New Jersey Avenue SE, West Building, Ground Floor, Washington, DC 20590-0001.

• Hand Delivery or Courier: Dockets Operations, U.S. Department of Transportation, 1200 New Jersey Avenue SE, West Building, Ground Floor, Washington, DC 20590-0001, between 9 a.m. and 5 p.m., Monday through Friday, except Federal holidays. To be sure someone is there to help you, please call (202) 366-9317 or (202) 366-9826 before visiting Dockets Operations.

• Fax: (202) 493-2251.

FOR FURTHER INFORMATION CONTACT: Mr. Bill Mahorney, Chief, Enforcement Division, FMCSA, (202) 493-0001, bill.mahorney@dot.gov. If you have questions on viewing or submitting material to the docket, call Dockets Operations at (202) 366-9826.

SUPPLEMENTARY INFORMATION: FMCSA organizes this NPRM as follows:

I. Public Participation and Request for Comments

A. Submitting Comments

B. Viewing Comments and Documents

C. Privacy

II. Abbreviations

III. Legal Basis

IV. Background

V. Discussion of Proposed Rulemaking

VI. International Impacts

VII. Section-by-Section Analysis

VIII. Regulatory Analyses

A. E.O. 12866 (Regulatory Planning and Review), E.O. 13563 (Improving Regulation and Regulatory Review), and DOT Regulatory Policies and Procedures

B. E.O. 14192 (Unleashing Prosperity Through Deregulation)

C. Advance Notice of Proposed Rulemaking

D. Regulatory Flexibility Act

E. Assistance for Small Entities

F. Unfunded Mandates Reform Act of 1995

G. Paperwork Reduction Act

H. E.O. 13132 (Federalism)

I. Privacy

J. E.O. 13175 (Indian Tribal Governments)

K. National Environmental Policy Act of 1969

L. Rulemaking Summary

I. Public Participation and Request for Comments

A. Submitting Comments

If you submit a comment, please include the docket number for this NPRM (FMCSA-2025-0114), indicate the specific section of this document to which your comment applies, and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/docket/FMCSA-2025-0114/document, click on this NPRM, click “Comment,” and type your comment into the text box on the following screen.

If you submit your comments by mail or hand delivery, submit them in an unbound format, no larger than 8½ by 11 inches, suitable for copying and electronic filing.

FMCSA will consider all comments and material received during the comment period.

Confidential Business Information (CBI)

CBI is commercial or financial information that is both customarily and actually treated as private by its owner. Under the Freedom of Information Act (5 U.S.C. 552), CBI is exempt from public disclosure. If your comments responsive to the NPRM contain commercial or financial information that is customarily treated as private, that you actually treat as private, and that is relevant or responsive to the NPRM, it is important that you clearly designate the submitted comments as CBI. Please mark each page of your submission that constitutes CBI as “PROPIN” to indicate it contains proprietary information. FMCSA will treat such marked submissions as confidential under the Freedom of Information Act, and they will not be placed in the public docket of the NPRM. Submissions containing CBI should be sent to Brian Dahlin, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this rulemaking.

B. Viewing Comments and Documents

To view any documents mentioned as being available in the docket, go to https://www.regulations.gov/docket/FMCSA-2025-0114/document and choose the document to review. To view comments, click this NPRM, then click “Browse Comments.” If you do not have access to the internet, you may view the docket online by visiting Dockets Operations on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

C. Privacy

In accordance with 5 U.S.C. 553(c), DOT solicits comments from the public to better inform its regulatory process. DOT posts these comments, including any personal information the commenter provides, to www.regulations.gov as described in the system of records notice DOT/ALL 14 (Federal Docket Management System (FDMS)), which can be reviewed at https://www.transportation.gov/individuals/privacy/privacy-act-system-records-notices. The comments are posted without edits and are searchable by the name of the submitter.

II. Abbreviations

ANPRM Advance notice of proposed rulemaking

CFR Code of Federal Regulations

CMV Commercial motor vehicle

DOT Department of Transportation

ELD Electronic logging device

FMCSRs Federal Motor Carrier Safety Regulations

FR Federal Register

HOS Hours of service

NPRM Notice of proposed rulemaking

OMB Office of Management and Budget

PIA Privacy Impact Assessment

PTA Privacy Threshold Assessment

UMRA Unfunded Mandates Reform Act of 1995

U.S.C. United States Code

III. Legal Basis

Section 32301(b) of the Commercial Motor Vehicle Safety Enhancement Act, enacted as part of MAP-21 (Pub. L. 112-141, 126 Stat. 405, 786-788, July 6, 2012), mandated that the Secretary adopt regulations requiring that CMVs involved in interstate commerce, operated by drivers who are required to keep Record of Duty Status, be equipped with ELDs. The statute, which may be found at 49 U.S.C. 31137, sets out provisions that the regulations must address, including device performance and design standards and certification requirements. In adopting regulations, the Agency must consider how the need for supporting documents might be reduced, to the extent data is captured on an ELD, without diminishing hours of service (HOS) enforcement.

The Motor Carrier Safety Act of 1984 (Pub. L. 98-554, Title II, 98 Stat. 2832, October 30, 1984) (the 1984 Act), as amended, provides authority to the Secretary of Transportation (Secretary) to regulate drivers, motor carriers, and vehicle equipment. It requires the Secretary to prescribe minimum safety standards for CMVs to ensure that—(1) CMVs are maintained, equipped, loaded, and operated safely; (2) responsibilities imposed on CMV drivers do not impair their ability to operate the vehicles safely; (3) drivers' physical condition is adequate to operate the vehicles safely; (4) the operation of CMVs does not have a deleterious effect on drivers' physical condition; and (5) CMV drivers are not coerced by a motor carrier, shipper, receiver, or transportation intermediary to operate a CMV in violation of regulations promulgated under 49 U.S.C. 31136 or under chapter 51 or chapter 313 of 49 U.S.C. (49 U.S.C. 31136(a)). The 1984 Act also grants the Secretary broad power in carrying out motor carrier safety statutes and regulations to “prescribe recordkeeping and reporting requirements” and to “perform other acts the Secretary considers appropriate” (49 U.S.C. 31133(a)(8) and (10)).

In 49 CFR 1.87(f), the Secretary delegated to the FMCSA Administrator the authority to carry out the functions vested in the Secretary by subchapters I, III, and IV of chapter 311, title 49, U.S.C.

IV. Background

On December 16, 2015, FMCSA published the final rule “Electronic Logging Devices and Hours of Service Supporting Documents” in the Federal Register (80 FR 78292), which set the foundation for current ELD requirements, including technical specifications, ELD use, supporting HOS documents, and both procedural and technical provisions aimed at ensuring that ELDs are not used to harass CMV operators. The rule added § 395.22(h)(1), which specifies that CMVs must have a copy of the ELD user's manual in-vehicle for those CMVs operating with an ELD. The requirement was intended to ensure that the driver, motor carrier, and enforcement personnel understood how the ELD operated.

V. Discussion of Proposed Rulemaking

As part of the December 16, 2015 final rule FMCSA also established a registration process for ELD providers and a self-certification process for the ELD products (See Sections 5.1 and 5.2., of part 395 (Technical Specifications)). The process requires an ELD provider to provide FMCSA business information and the capabilities of the ELD they wish to certify. FMCSA then reviews the information and lists the provider on the FMCSA self-certified list of ELDs if no issues are found with the information provided. The list is then available on the FMCSA website for motor carriers to locate self-certified devices for their operations.

One requirement for self-certification is submission of the ELD owner's manual to FMCSA, which ensures FMCSA personnel have access to the information necessary to operate the ELD. Drivers are already required under § 395.24(d) to be able to operate the device upon request of an enforcement officer. FMCSA has thus determined this requirement to be redundant, as the Agency already has access to the manual through the certification process, other law enforcement officers can access the manuals via online resources, and drivers are required to know how to operate their ELD. Accordingly, this rulemaking proposes to remove the requirement for drivers to have the user's manual in-vehicle.

VI. International Impacts

Motor carriers and drivers are subject to the laws and regulations of the countries that they operate in, unless an international agreement states otherwise. Drivers and carriers should be aware of the regulatory differences between nations.

VII. Section-by-Section Analysis

FMCSA proposes to rescind the requirement for motor carriers to maintain an in-vehicle copy of the ELD user's manual as found in 49 CFR 395.22(h)(1). This will reduce burden on motor carriers as the drivers, motor carriers, and FMCSA already have access to the manual and are required to be aware of how to operate the device.

VIII. Regulatory Analyses

A. Executive Order (E.O.) 12866 (Regulatory Planning and Review), E.O. 13563 (Improving Regulation and Regulatory Review), and DOT Regulatory Policies and Procedures

FMCSA has considered the impact of this NPRM under E.O. 12866 (58 FR 51735, Oct. 4, 1993), Regulatory Planning and Review, E.O. 13563 (76 FR 3821, Jan. 21, 2011), Improving Regulation and Regulatory Review, and DOT Regulatory Policies and Procedures. The Office of Information and Regulatory Affairs within the Office of Management and Budget (OMB) determined that this NPRM is not a significant regulatory action under section 3(f) of E.O. 12866, as supplemented by E.O. 13563, and does not require an assessment of potential costs and benefits under section 6(a)(3) of that order. Accordingly, OMB has not reviewed it under that E.O.

FMCSA proposes to rescind the in-vehicle ELD operator's manual requirement for CMVs. FMCSA anticipates that this would result in cost savings for all motor carriers that are currently required to use ELDs and maintain a copy of the manual in the vehicle. FMCSA does not have the information to estimate cost savings from the recission of this requirement but anticipates that the impact of removing ELD manuals would be de minimis. FMCSA requests data or any other information that could assist the Agency in quantifying these costs savings. This proposal would not impact safety. The regulations would still require that the motor carrier ensure that drivers possess an instruction sheet describing the data transfer mechanisms supported by the ELD and step-by-step instructions for producing and transferring drivers' HOS records to an authorized safety official.

B. E.O. 14192 (Unleashing Prosperity Through Deregulation)

E.O. 14192 (90 FR 9065, Jan. 31, 2025), Unleashing Prosperity Through Deregulation, requires that for “each new [E.O. 14192 regulatory action] issued, at least ten prior regulations be identified for elimination.” ¹

¹ Executive Office of the President. Executive Order 14192 of January 31, 2025. Unleashing Prosperity Through Deregulation. 90 FR 9065-9067. Feb. 6, 2025.

Implementation guidance for E.O. 14192 issued OMB (Memorandum M-25-20, March 26, 2025) defines two different types of E.O. 14192 actions: an E.O. 14192 deregulatory action, and an E.O. 14192 regulatory action.²

² Executive Office of the President. Office of Management and Budget. Guidance Implementing Section 3 of Executive Order 14192, Titled “Unleashing Prosperity Through Deregulation.” Memorandum M-25-20. March 26, 2025.

An E.O. 14192 deregulatory action is defined as “an action that has been finalized and has total costs less than zero.” This proposed rulemaking is expected to have total costs less than zero as it would remove the requirement to keep a copy of the ELD manual in the vehicle and therefore would be considered an E.O. 14192 deregulatory action upon issuance of a final rule. The cost savings of this rulemaking could not be quantified.

C. Advance Notice of Proposed Rulemaking

Under 49 U.S.C. 31136(g), FMCSA is required to publish an advance notice of proposed rulemaking (ANPRM) or proceed with a negotiated rulemaking, if a proposed safety rule “under this part” ³ is likely to lead to the promulgation of a major rule.⁴ As this proposed rule is not likely to result in the promulgation of a major rule, the Agency is not required to issue an ANPRM or to proceed with a negotiated rulemaking.

³ Part B of Subtitle VI of Title 49, United States Code, i.e., 49 U.S.C. chapters 311-317.

⁴ A major rule means any rule that the Office of Management and Budget finds has resulted in or is likely to result in (a) an annual effect on the economy of $100 million or more; (b) a major increase in costs or prices for consumers, individual industries, geographic regions, Federal, State, or local government agencies; or (c) significant adverse effects on competition, employment, investment, productivity, innovation, or on the ability of United States-based enterprises to compete with foreign-based enterprises in domestic and export markets (5 U.S.C. 804(2)).

D. Regulatory Flexibility Act

The Regulatory Flexibility Act (5 U.S.C. 601 et seq.), as amended by the Small Business Regulatory Enforcement Fairness Act of 1996,⁵ requires Federal agencies to consider the effects of the regulatory action on small business and other small entities and to minimize any significant economic impact. The term small entities comprises small businesses and not-for-profit organizations that are independently owned and operated and are not dominant in their fields, and governmental jurisdictions with populations of less than 50,000 (5 U.S.C. 601(6)). Accordingly, DOT policy requires an analysis of the impact of all regulations on small entities, and mandates that agencies strive to lessen any adverse effects on these businesses.

⁵ Public Law 104-121, 110 Stat. 857, (Mar. 29, 1996).

No regulatory flexibility analysis is required, however, if the head of an agency or an appropriate designee certifies that the rule will not have a significant economic impact on a substantial number of small entities. This proposed rule would impact all entities that are required to use an ELD and keep a manual in the vehicle. As such, FMCSA anticipates that it would impact a substantial number of small entities. However, the impact of having the option of removing the ELD manual from the vehicle is de minimis and would not result in a significant impact on the impacted entities. Consequently, I certify that the proposed action would not have a significant economic impact on a substantial number of small entities.

E. Assistance for Small Entities

In accordance with section 213(a) of the Small Business Regulatory Enforcement Fairness Act of 1996 (Pub. L. 104-121, 110 Stat. 857), FMCSA wants to assist small entities in understanding this proposed rule so they can better evaluate its effects on themselves and participate in the rulemaking initiative. If the proposed rule would affect your small business, organization, or governmental jurisdiction and you have questions concerning its provisions or options for compliance, please consult the person listed under FOR FURTHER INFORMATION CONTACT.

Small businesses may send comments on the actions of Federal employees who enforce or otherwise determine compliance with Federal regulations to the Small Business Administration's Small Business and Agriculture Regulatory Enforcement Ombudsman (Office of the National Ombudsman, see https://www.sba.gov/about-sba/oversight-advocacy/office-national-ombudsman) and the Regional Small Business Regulatory Fairness Boards. The Ombudsman evaluates these actions annually and rates each agency's responsiveness to small business. If you wish to comment on actions by employees of FMCSA, call 1-888-REG-FAIR (1-888-734-3247). DOT has a policy regarding the rights of small entities to regulatory enforcement fairness and an explicit policy against retaliation for exercising these rights.

F. Unfunded Mandates Reform Act of 1995

The Unfunded Mandates Reform Act of 1995 (2 U.S.C. 1531-1538) (UMRA) requires Federal agencies to assess the effects of their discretionary regulatory actions. The Act addresses actions that may result in the expenditure by a State, local, or Tribal government, in the aggregate, or by the private sector of $206 million (which is the value equivalent of $100 million in 1995, adjusted for inflation to 2024 levels) or more in any 1 year. Because this rulemaking would not result in such an expenditure, a written statement is not required.

G. Paperwork Reduction Act

This proposed rule contains no new information collection requirements under the Paperwork Reduction Act of 1995 (44 U.S.C. 3501-3520). The regulations included in this NPRM are covered by an existing, approved collection, OMB Control No. 2126-0001, Hours of Service (HOS) of Drivers Regulations. That information collection details the reporting and recordkeeping costs for drivers using ELDs, however it does not contain a specific, separate cost for keeping a copy of the manual in the vehicle of the CMV. Most likely, this is because it was estimated that the cost would be de minimus, as FMCSA's electronic documents and signatures regulation (found at § 390.32) would allow for the driver to maintain an electronic copy of the manual. In such case, relieving the driver from the requirement entirely would be a de minimus reduction.

H. E.O. 13132 (Federalism)

A rule has implications for federalism under section 1(a) of E.O. 13132 if it has “substantial direct effects on the States, on the relationship between the national government and the States, or on the distribution of power and responsibilities among the various levels of government.”

FMCSA has determined that this rulemaking would not have substantial direct costs on or for States, nor would it limit the policymaking discretion of States. Nothing in this document preempts any State law or regulation. Therefore, this rulemaking does not have sufficient federalism implications to warrant the preparation of a Federalism Impact Statement.

I. Privacy

The Consolidated Appropriations Act, 2005,⁶ requires the Agency to assess the privacy impact of a regulation that will affect the privacy of individuals. This NPRM would not require the collection of personally identifiable information.

⁶ Public Law 108-447, 118 Stat. 2809, 3268, note following 5 U.S.C. 552a (Dec. 4, 2014).

The Privacy Act (5 U.S.C. 552a) applies only to Federal agencies and any non-Federal agency that receives records contained in a system of records from a Federal agency for use in a matching program.

The E-Government Act of 2002,⁷ requires Federal agencies to conduct a PIA for new or substantially changed technology that collects, maintains, or disseminates information in an identifiable form. No new or substantially changed technology would collect, maintain, or disseminate information as a result of this rulemaking. Accordingly, FMCSA has not conducted a PIA.

⁷ Public Law 107-347, sec. 208, 116 Stat. 2899, 2921 (Dec. 17, 2002).

In addition, the Agency will complete a Privacy Threshold Assessment (PTA) to evaluate the risks and effects the proposed rulemaking might have on collecting, storing, and sharing personally identifiable information. The PTA will be submitted to FMCSA's Privacy Officer for review and preliminary adjudication and to DOT's Privacy Officer for review and final adjudication.

J. E.O. 13175 (Indian Tribal Governments)

This rulemaking does not have Tribal implications under E.O. 13175, Consultation and Coordination with Indian Tribal Governments, because it does not have a substantial direct effect on one or more Indian Tribes, on the relationship between the Federal Government and Indian Tribes, or on the distribution of power and responsibilities between the Federal Government and Indian Tribes.

K. National Environmental Policy Act of 1969

FMCSA analyzed this proposed rule pursuant to the National Environmental Policy Act of 1969 (42 U.S.C. 4321 et seq.). The Agency believes this proposed rule, if finalized, would not have a reasonably foreseeable significant effect on the quality of the human environment. This action would likely fall under a published categorical exclusion and thus be excluded from further analysis and documentation in an environmental assessment or environmental impact statement under FMCSA Order 5610.1 (69 FR 9680), Appendix 2. Specifically, paragraphs (6)(q) and (6)(bb), which cover regulations pertaining to records preservation and vehicle operation safety standards, respectively. The public is invited to comment on the impact of the proposed Agency action.

L. Rulemaking Summary

In accordance with 5 U.S.C. 553(b)(4), a summary of this proposed rule may be found at regulations.gov, under the docket number.

List of Subjects in 49 CFR Part 395

Highway safety, Motor carriers, Reporting and recordkeeping requirements.

Accordingly, FMCSA proposes to amend 49 CFR part 395 to read as follows:

PART 395—HOURS OF SERVICE FOR DRIVERS

1. The authority citation for part 395 continues to read as follows:

Authority: 49 U.S.C. 504, 21104(e), 31133, 31136, 31137, 31502; sec. 113, Pub. L. 103-311, 108 Stat. 1673, 1676; sec. 229, Pub. L. 106-159 (as added and transferred by sec. 4115 and amended by secs. 4130-4132, Pub. L. 109-59, 119 Stat. 1144, 1726, 1743, 1744), 113 Stat. 1748, 1773; sec. 4133, Pub. L. 109-59, 119 Stat. 1144, 1744; sec. 32934, Pub. L. 112-141, 126 Stat. 405, 830; sec. 5206(b), Pub. L. 114-94, 129 Stat. 1312, 1537; and 49 CFR 1.87.

§ 395.22 Motor carrier responsibilities—In general.

2. Amend § 395.22 by:

a. Removing paragraph (h)(1); and

b. Redesignating paragraphs (h)(2) though (h)(4) as paragraphs (h)(1) through (h)(3), respectively.

Issued under authority delegated in 49 CFR 1.87.
Sue Lawless,
Assistant Administrator.

[FR Doc. 2025-09711 Filed 5-27-25; 4:15 pm]

BILLING CODE 4910-EX-P